DEPARTMENT OF AGRICULTURE

Submission for OMB Review; Comment Request

June 5, 2003.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 60 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

DEPARTMENT OF AGRICULTURE

Office of the Chief Information Officer

[Docket No. ]

Notice of Request for Approval of Information Collection

AGENCY: Office of the Chief Information Officer, USDA.

ACTION: Notice.

SUMMARY: In accordance with the Paperwork Reduction Act of 1995 (44 U.S.C. Chapter 35), this notice announces the Office of the Chief Information Officer's (OCIO) intention to request approval to collect information from attendees of six farm shows for the eGovernment Marketing and Grower Relations Assessment. The study will collect information from voluntary participants in six farm show events.

DATES: Comments on this notice must be received within 60 days of publication in the Federal Register to be assured of consideration.

ADDITIONAL INFORMATION OR COMMENTS: Requests for additional information regarding this notice should be directed to William Cosgrove, SCI Program Manager, eGovernment Program, OCIO-SCI, U.S. Department of Agriculture, 1400 Independence Ave., SW., South Building, Room 4105-S Washington, DC 20250-3700; 202-720-8650. Submit electronic comments to Bill.Cosgrove@usda.gov.

SUPPLEMENTARY INFORMATION: Title: FY2003 and FY2004 Farm Shows Marketing and Grower Relations Assessment.

OMB Number: 0503-NEW.

Expiration Date of Approval: Three years from date of issuance.

Type of Request: Approval of a new information collection.

Abstract: This project represents an important step in analyzing—from the perspective of a core USDA customer group—the software, accessibility, formats, user-friendliness, security safeguards, and other aspects of USDA eGovernment applications in effectively meeting business requirements.

In carrying out the overall mission, OCIO seeks approval of information gathering activities that will provide key information about the impact of the eGovernment program on its key constituents: farmers, growers, and producers. It will also elucidate the programs current limitations and future challenges. The efforts aim to determine the principle causes of farmer use or non-use of eGovernment applications to date and provide guidance about future eGovernment functionality desired by farmers.

Working with OCIO, a contractor will be attending various farm shows in Illinois, Missouri, Texas, Georgia, California, and Nevada to gather feedback on current USDA eGovernment efforts. At each show, the contractor will set up a marketing booth and solicit volunteers to provide feedback through a two-page questionnaire. Participation is entirely voluntary and participants can choose to answer none of, some of, or all questions in the survey.

Estimate of Burden: Public reporting burden for this collection of information is estimated to average 0.5 hours per response.

Respondents: The audience at these shows will be farmers, growers, and producers.

Estimated Number of Respondents: 3,000 (total of all shows).

Estimated Number of Responses per Respondent: One.

Estimated Total Annual Burden of Respondents: 1,500 Hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to William Cosgrove, SCI Program Manager, eGovernment Program, OCIO-SCI, U.S. Department of Agriculture, 1400 Independence Ave., SW., South Building, Room 4105-S Washington, DC 20250-3700; 202-720-8650.

Submit electronic comments to Bill.Cosgrove@usda.gov. All comments received will be available for public inspection during regular business hours at the same address.

All responses to this notice will be summarized and included in the request for OMB approval. All comments will become a matter of public record.

William Cosgrove.

Sondra A. Blakey,
Departmental Information Collection Clearance Officer.

[FR Doc. 03-15060 Filed 6-13-03; 8:45 am]

BILLING CODE 3410-01-M